DEPARTMENT OF COMMERCE

National Oceanic and Atmospheric Administration

RIN 0648-XC568

Endangered and Threatened Species; Take of Anadromous Fish

AGENCY: National Marine Fisheries Service (NMFS), National Oceanic and Atmospheric Administration (NOAA), Commerce.

ACTION: Receipt of an application for a new scientific research permit (16506) and notice of withdrawal of a scientific research permit application (16128).

SUMMARY: Notice is hereby given that NMFS has received a scientific research permit application request relating to salmonids listed under the Endangered Species Act (ESA). The proposed research permit is intended to increase knowledge of the species and to help guide management and conservation efforts. The application and related documents may be viewed online at: https://apps.nmfs.noaa.gov/preview/preview_open_for_comment.cfm. These documents are also available upon written request or by appointment by contacting NMFS by phone (707) 575-6097 or fax (707) 578-3435.

DATES: Written comments on the permit application must be received at the appropriate address or fax number (see ADDRESSES) no later than 5 p.m. Pacific standard time on April 22, 2013.

ADDRESSES: Written comments on either application should be submitted to the Protected Resources Division, NMFS, 777 Sonoma Avenue, Room 325, Santa Rosa, CA 95404. Comments may also be submitted via fax to (707) 578-3435 or by email to FRNpermits.SR@noaa.gov.

FOR FURTHER INFORMATION CONTACT: Jeffrey Jahn, Santa Rosa, CA (ph.: 707-575-6097, email.: Jeffrey.Jahn@noaa.gov).

SUPPLEMENTARY INFORMATION:

Species Covered in This Notice

This notice is relevant to federally threatened Central California Coast steelhead (Oncorhynchus mykiss), endangered Central California Coast coho salmon (O. kisutch), threatened California Coastal Chinook salmon (O. tshawytscha), threatened Southern Oregon/Northern California coho salmon (O. kisutch), and threatened Northern California steelhead (O. mykiss).

Authority

Scientific research permits are issued in accordance with section 10(a)(1)(A) of the ESA of 1973 (16 U.S.C. 1531-1543) and regulations governing listed fish and wildlife permits(50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 16506

Michael Podlech (Aquatic Ecologist) is requesting a 5-year scientific research permit to take juvenile, smolt and adult Central California Coast (CCC) steelhead and juvenile, smolt and adult CCC coho salmon, (ESA-listed salmonids) associated with two research studies within Sonoma and San Mateo counties in California. In the studies described below, the researcher does not expect to kill any listed fish but a small number may die as an unintended result of the research activities.

These projects are part of an ongoing effort to monitor population status and trends of ESA-listed salmonids within Squaw Creek (Sonoma County) and Pescadero Creek (San Mateo County). The objectives are to: (1) Monitor salmonid smolt outmigration, (2) determine summer juvenile rearing, (3) assess whether previous NMFS CCC coho salmon broodstock releases have resulted in wild progeny, and (4) gather population data to inform ongoing watershed restoration and salmonid recovery efforts in Pescadero Creek. In these projects, ESA-listed salmonids will be captured (electrofishing and fyke-net), anesthetized, handled (identified, measured, weighed), a subset of these captured fish will be fin-clipped (marked), tissue sampled (fin-clip), scale sampled, and released. All data and information will be shared with county, state, and federal entities for use in conservation and restoration planning efforts related to ESA-listed salmonids.

Study 1 is a CCC steelhead population monitoring study in Squaw Creek, this watershed has been developed for geothermal power production by the Calpine Corporation, but is otherwise pristine. The Squaw Creek Aquatic Monitoring Program (SCAMP), initiated in 1984 to track the population dynamics in this Sonoma County watershed. A Smith and Root backpack electrofisher will be used annually from August 15-September 15 for two to three days of sampling. Electroshocked juvenile CCC steelhead will be handled minimally and released back into the habitat they were captured.

Study 2 will monitor the CCC steelhead and CCC coho salmon population trends in Pescadero Creek, San Mateo County. A fyke net trap will be placed in the main channel of Pescadero Creek within a reach extending from the upper limit of tidal influence upstream for approximately 0.5 mile. The trap will be set to fish from March 1 through June 15 on a four days a week schedule. Adult and smolt salmonids will be captured (fyke net), anesthetized, and handled. A subset of these captured fish will be fin-clipped (marked), tissue sampled (fin-clip), and scale sampled.

Permit 16128 Application Withdrawn

NMFS has received notice from the United State Geological Survey (USGS) California Cooperative Fish Research Unit at Humboldt State University to withdraw its application for a permit for take of ESA-listed species associated with scientific research. Notice was published on April 19, 2011 (76 FR 21857) that USGS applied for a scientific research permit under section 10(a)(1)(A) of the ESA. The permit requested take of adult, smolt, and juvenile threatened Southern Oregon/Northern California Coast (SONCC) coho salmon; adult, smolt, and juvenile threatened California Coastal (CC) Chinook salmon; and adult, smolt, and juvenile threatened Northern California (NC) steelhead. Associated with three routine fish distribution and monitoring research projects. During the permit process the applicant decided to collaborate with the California Department of Fish and Wildlife (Department), and include these three projects in 4(d) research applications annually renewed by the Department for research and monitoring in the Redwood Creek watershed. The applicant will be gradually turning over these long term projects to the Department to carry on the research and monitoring after the applicant's retirement. The applicant requested this withdrawal via email on June 12, 2012 and the permit application was withdrawn on June 13, 2012.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final actions in the Federal Register.

Dated: March 18, 2013.
Helen Golde,
Acting Office Director, Office of Protected Resources, National Marine Fisheries Service.

[FR Doc. 2013-06482 Filed 3-20-13; 8:45 am]

BILLING CODE 3510-22-P